DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

The National Railroad Passenger Corporation

[Docket Number FRA-2009-0103]

The National Railroad Passenger Corporation (Amtrak), a Class 1 Railroad, petitioned FRA for a waiver of compliance from certain provisions prescribed by 49 CFR 214.335 On-track safety procedures for roadway work groups.

49 CFR 214.7 Definitions, states in part, “Fouling a track means the placement of an individual or an item of equipment in such proximity to a track that the individual or equipment could be struck by a moving train or on-track equipment, or in any case is within four feet of the field side of the near running rail.” The requirements in 49 CFR 214.335 specify the methods in which roadway work groups are provided on-track safety in order to foul railroad tracks to perform work. Those methods include working limits and train approach warning.

Amtrak states that the current definition of fouling a track prevents the timely removal of snow from the last 3 feet of station platforms adjacent to the track and it discourages the removal of snow in an area where snow removal is critical for passenger safety.

This waiver request is submitted for the removal of snow on platforms exclusively on passenger station platforms outside of the Northeast Corridor. The method proposed would use train conductors to coordinate railroad employees or contractors to remove snow at the platforms after they have received documented training on the process which includes:

1. Job briefings to discuss work to be done.

2. Not crossing the yellow tactile strip.

3. Directions on which tools to use.

4. Not working while trains are moving.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0103) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on October 26, 2009.
Grady C. Cothen, Jr.,
Deputy Associate Administrator for Safety Standards and Program Development.

[FR Doc. E9-26214 Filed 10-29-09; 8:45 am]

BILLING CODE 4910-06-P